DEPARTMENT OF HOMELAND SECURITY

Coast Guard

33 CFR Part 100

[Docket Number USCG-2024-0544]

RIN 1625-AA08

Special Local Regulation; Cayuga Lake, Ithaca, NY

AGENCY: Coast Guard, DHS.

ACTION: Temporary final rule.

SUMMARY: The Coast Guard is establishing a temporary special local regulation for certain waters of Cayuga Lake. This action is necessary to provide for the safety of life on these navigable waters near Ithaca, NY, during a marine event on August 10, 2024. This regulation prohibits persons and vessels from transiting the regulated area unless authorized by the Captain of the Port Sector Eastern Great Lakes or a designated representative.

DATES: This rule is effective from 6 a.m. to 11:30 a.m. on August 10, 2024.

ADDRESSES: To view documents mentioned in this preamble as being available in the docket, go to https://www.regulations.gov, type USCG-2024-0544 in the search box and click “Search.” Next, in the Document Type column, select “Supporting & Related Material.”

FOR FURTHER INFORMATION CONTACT: If you have questions about this rule, call or email MST1 Joseph Stranc, Waterways Management Division, U.S. Coast Guard Marine Safety Unit Thousand Islands; telephone 315-774-8724, email SMB-MSUThosandIslands-WaterwaysManagement@uscg.mil.

SUPPLEMENTARY INFORMATION:

I. Table of Abbreviations

CFR Code of Federal Regulations

DHS Department of Homeland Security

FR Federal Register

NPRM Notice of proposed rulemaking

§ Section

U.S.C. United States Code

II. Background Information and Regulatory History

March 4, 2024, an organization notified the Coast Guard that it will be conducting a swim event from 6 a.m. to 11:30 a.m. on August 10, 2024. The event will take place within the following boundaries: starting at point 42°30′07.01″ N, 076°30′57.04″ W; running adjacent shore to point 42°30′30.03″ N, 076°31′09.34″ W; thence to 42°29′50.20″ N, 076°32′24.99″ W; running adjacent to the shore to point 42°29′34.71″ N, 076°32′17.11″ W; thence back to starting position. In response, on July 10, 2024, the Coast Guard published a notice of proposed rulemaking (NPRM) titled Special Local Regulation; Cayuga Lake, Ithaca, NY 89 FR 56677. There we stated why we issued the NPRM and invited comments on our proposed regulatory action related to this fireworks display. During the comment period that ended July 25, 2024, we received no comments.

Under 5 U.S.C. 553(d)(3), the Coast Guard finds that good cause exists for making this rule effective less than 30 days after publication in the Federal Register. Delaying the effective date of this rule would be impracticable because immediate action is needed to ensure the safety for participants during the duration of the marine event.

III. Legal Authority and Need for Rule

The Coast Guard is issuing this rule under authority in 46 U.S.C. 70041. The Captain of the Port Sector Eastern Great Lakes (COTP) has determined that potential hazards associated with the marine event occurring on August 10, 2024, will pose safety concern for the event participants. The purpose of this rule is to ensure safety of participants and the navigable waters in the regulated area before, during, and after the scheduled event.

IV. Discussion of Comments, Changes, and the Rule

As noted above, we received no comments on our NPRM published July 10, 2024. There are no changes in the regulatory text of this rule from the proposed rule in the NPRM.

This rule establishes a special local regulation from 6 a.m. to 11:30 a.m. on August 10, 2024. The special local regulation will cover all navigable waters within Cayuga Lake starting at point 42°30′07.01″ N 076°30′57.04″ W and running adjacent to the shore to point 42°30′30.03″ N 076°31′09.34″ W, continuing to point 42°29′50.20″ N 076°32′24.99″ W, running adjacent to the shore to point 42°29′34.71″ N 076°32′17.11″ W, back to the starting position. The duration of the zone is intended to ensure the safety of event participants and these navigable waters before, during, and after the scheduled 6 a.m. to 11:30 a.m. marine event. No vessel or person will be permitted to enter the regulated area without obtaining permission from the COTP or a designated representative.

V. Regulatory Analyses

We developed this rule after considering numerous statutes and Executive orders related to rulemaking. Below we summarize our analyses based on a number of these statutes and Executive orders, and we discuss First Amendment rights of protestors.

A. Regulatory Planning and Review

Executive Orders 12866 and 13563 direct agencies to assess the costs and benefits of available regulatory alternatives and, if regulation is necessary, to select regulatory approaches that maximize net benefits. This rule has not been designated a “significant regulatory action,” under section 3(f) of Executive Order 12866, as amended by Executive Order 14094 (Modernizing Regulatory Review). Accordingly, this rule has not been reviewed by the Office of Management and Budget (OMB).

This regulatory action determination is based on the size, location, duration and time of day of the regulated area. Vessel traffic would be able to safely transit through this regulated area which would impact a small designated area of Cayuga Lake for less than 6 hours during the morning. Moreover, the Coast Guard would issue a Broadcast Notice to Mariners via VHF-FM marine channel 16 about the regulated area, and the rule would allow vessels to seek permission to transit through the area.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard received no comments from the Small Business Administration on this rulemaking. The Coast Guard certifies under 5 U.S.C. 605(b) that this rule will not have a significant economic impact on a substantial number of small entities.

While some owners or operators of vessels intending to transit the regulated area may be small entities, for the reasons stated in section V.A above, this rule will not have a significant economic impact on any vessel owner or operator.

Under section 213(a) of the Small Business Regulatory Enforcement Fairness Act of 1996 (Pub. L. 104-121), we want to assist small entities in understanding this rule. If the rule would affect your small business, organization, or governmental jurisdiction and you have questions concerning its provisions or options for compliance, please call or email the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment. This rule involves a special local regulation lasting 5.5 hours that would prohibit entry to the swim area of the Cayuga Lake without authorization from COTP or their designated representative. It is categorically excluded from further review under paragraph L61 of appendix A, Table 1 of DHS Instruction Manual 023-01-001-01, Rev. 1. A Memorandum for the Record supporting this determination is available in the docket. For instructions on locating the docket, see the ADDRESSES section of this preamble.

G. Protest Activities

The Coast Guard respects the First Amendment rights of protesters. Protesters are asked to call or email the person listed in the FOR FURTHER INFORMATION CONTACT section to coordinate protest activities so that your message can be received without jeopardizing the safety or security of people, places or vessels.

List of Subjects in 33 CFR Part 100

Marine safety, Navigation (water), Reporting and recordkeeping requirements, Waterways

For the reasons discussed in the preamble, the Coast Guard amends 33 CFR part 100 as follows:

PART 100—SAFETY OF LIFE ON NAVIGABLE WATERS

1. The authority citation for part 100 continues to read as follows:

Authority: 46 U.S.C. 70041; 33 CFR 1.05-1.

2. Add § 100.T999-0544 to read as follows:

§ 100.T999-0544 Women Swimmin' for Hospicare, Cayuga Lake, Ithaca, NY.

(a) Enforcement period. Coast Guard Sector Eastern Great Lakes Captain of the Port (COTP) will enforce this section from 6 a.m. to 11:30 a.m. on August 10, 2024, upon the navigable waters of Cayuga Lake as described in paragraph (b) of this section.

(b) Regulated area. The regulations in this section apply to the following area: All navigable waters within Cayuga Lake starting at point 42°30′07.01″ N 076°30′57.04″ W and running adjacent to the shore to point 42°30′30.03″ N 076°31′09.34″ W, continuing to point 42°29′50.20″ N 076°32′24.99″ W, running adjacent to the shore to point 42°29′34.71″ N 076°32′17.11″ W, back to the starting position.

(c) Definitions. As used in this section—

Designated representative means a Coast Guard Patrol Commander, including a Coast Guard coxswain, petty officer, or other officer operating a Coast Guard vessel and a Federal, State, and local officer designated by or assisting the COTP in the enforcement of the regulations in this section.

(d) Regulations. All vessels will be required to request permission from the COTP or their designated representative to transit the area and will operate at a no wake speed to reduce the wake to a minimum, and in a manner which will not endanger participants in the event or any other craft. The COTP or their designated representative may be contacted on Channel 16 (156.8 MHZ) by the call sign “Coast Guard Patrol Commander”.

Dated: July 29, 2024.
S.M. Murray,
Commander, U.S. Coast Guard, Alternate Captain of the Port, Sector Eastern Great Lakes.

[FR Doc. 2024-17121 Filed 8-2-24; 8:45 am]

BILLING CODE 9110-04-P